DEPARTMENT OF THE INTERIOR

National Park Service

Record of Decision on Final General Management Plan and Environmental Impact Statement, Fort Stanwix, National Monument, Rome, NY

AGENCY: National Park Service, Department of the Interior.

ACTION: Notice of availability of a Record of Decision on the Final General Management Plan and Environmental Impact Statement for Fort Stanwix National Monument.

SUMMARY: Pursuant to § 102(2)(C) of the National Environmental Policy Act of 1969, as amended, the National Park Service (NPS) announces the availability of the Record of Decision for the Final General Management Plan and Environmental Impact Statement (GMP/EIS) for Fort Stanwix National Monument, New York. The Regional Director, Northeast Region, has approved the Record of Decision for the GMP/EIS, selecting Alternative 2—Preferred Action, which was described as the preferred alternative in the Final GMP/EIS which was issued for the required 30-day no action period beginning on July 31, 2009 and ending August 31, 2009. The Record of Decision includes a description of the background of the project, a statement of the decision made, synopses of other alternatives considered, the basis for the decision, findings on impairment of park resources and values, a description of the environmentally preferred alternative, a listing of measures to minimize environmental harm, and an overview of public and agency involvement in the decision-making process. As soon as practicable, the NPS will begin to implement the selected alternative.

Copies of the Record of Decision may be downloaded from the NPS Planning, Environment and Public Comment (PEPC) Web site (http://parkplanning.nps.gov/fost) or a hardcopy may be obtained from the contact listed below.

FOR FURTHER INFORMATION CONTACT: Debbie Conway, Superintendent, Fort Stanwix National Monument, 112 East Park Street, Rome, New York 13440; 315-338-7730.

SUPPLEMENTARY INFORMATION: Fort Stanwix National Monument has needed a General Management Plan (GMP) since it has been reliant on a 1967 Master Plan and a 1974 Development Concept Plan. The Fort Stanwix National Monument GMP describes and explains the resource conditions that should exist and the visitor experiences that should be available at Fort Stanwix National Monument. The GMP provides a consistent framework for coordinating and integrating all subsequent planning and management decisions concerning the park.

The selected alternative, Alternative 2, the Preferred Action, would broaden interpretation to emphasize the role of Fort Stanwix in the greater Northern Frontier and Mohawk Valley regional context; expand its interpretation of the Six Nations Confederacy; and, within available funding and authority, foster programmatic coordination as well as technical assistance to thematically related sites within the Northern Frontier and Mohawk Valley. Fort Stanwix National Monument would also use existing authorities to increase its capacity to pursue community outreach and regional partnership initiatives, particularly in seeking hike and bike trail linkages or shuttle vehicle connections with related sites. Efforts would be made to modify a limited part of the lawn area near the reconstructed fort to establish landscape conditions, using native grasses and other vegetation more evocative (not a reconstruction) of the historic meadow landscape while still maintaining sufficient lawn area to support community events. Certain fort structures that have not been reconstructed due to fiscal constraints and that are important to interpreting the history at Fort Stanwix, such as the Ravelin, may be reconstructed if it is feasible, fully funded by outside sources, and meets with the Secretary of the Interior's Standards for the Treatment for Historic Structures and applicable Section 106 compliance requirements. Vacated fort spaces would be adapted for public use, relying on enhanced interpretation to educate visitors and provide for the essential comprehension of the fort's original appearance.

In addition to the selected alternative, a No Action alternative was presented and analyzed in the Draft and Final Environmental Impact Statements. The No Action alternative describes current management practices and conditions at Fort Stanwix National Monument with no major new actions. Current management directions, practices, and conditions would continue largely unchanged. This alternative has an interpretive focus on the siege of Fort Stanwix during the Revolutionary War.

The issues explored through the GMP/EIS planning process include protection of cultural resources, visitor services, partnership opportunities, carrying capacity, and the lack of a properly defined boundary. The planning team established a set of criteria and goals against which each alternative was compared to determine which alternative best fulfilled the purpose and objectives of the GMP.

Resource Preservation Goals

• NPS addresses planning issues associated with cultural resource management of the fort structure, grounds, collections, and archeological resources. NPS should establish cultural landscape conditions to make it more evocative of historic era while maintaining sufficient lawn area to support community events.

Visitor Experience Goals

• Visitors understand the history of Fort Stanwix during the 18th century, particularly the events that occurred there during the American Revolutionary War in 1777. Visitors also understand the significance of treaties negotiated at Fort Stanwix between 1768 and 1790 with Indian Tribes.

• The visitor experience fully reflects the park's purpose, significance and themes. This includes enhancing the visitor experiencing and interpreting the regional historical context of Fort Stanwix to include Oriskany Battlefield, Northern Frontier, and Mohawk Valley.

• Interpretation in broadened to emphasize the role of Fort Stanwix in the greater Northern Frontier and Mohawk Valley regional context and expanding interpretation of the Six, Nations Confederacy.

• Interpretive media, exhibits, wayside exhibits, and other programs are updated to enhance visitor understanding of interpretive stories.

Transportation Goals

• Fort Stanwix National Monument works with local authorities to improve traffic conditions and improve pedestrian, bicycle, and shuttle vehicle linkages with related sites, including the Oriskany Battlefield.

Park Administration Goals

• Administrative, interpretive, maintenance, and other staff, as well as facilities and other infrastructure, sustain the programs and operations of the Fort Stanwix National Monument and accomplish the NPS mission.

• Fort Stanwix National Monument staff enjoys healthy and safe working conditions.

Collaboration and Partnership Goal

• Formal partnerships and informal associations with other agencies and organizations assist with the preservation and public enjoyment of the Fort Stanwix National Monument. These partnerships and other collaborative projects support the NPS and Fort Stanwix National Monument missions.

• Fort Stanwix National Monument increases programmatic coordination and offering technical assistance to partners in the Northern Frontier and Mohawk valley regions.

After careful consideration and review of the purpose and significance of Fort Stanwix National Monument and its establishing laws and policies, as well as input received from other agencies and the public during the planning process, Alternative 2 was chosen by NPS as the alternative to be implemented. The selected alternative best fulfills the mandates of the founding legislation, the purpose and significance, and the other laws and policies guiding the NPS and the National Monument. The selected alternative, which builds upon key aspects of the 1967 Master Plan but also recognizes current historical scholarship and cultural resource management practices, best supports the park's purpose, significance and goals, while also providing management direction that best protects resources, offers high-quality visitor experiences, and takes advantage of partnership opportunities.

The environmental consequences of the selected alternative are fully documented in the Draft GMP/EIS and the Final GMP/EIS. All practicable means to avoid or minimize environmental harm that could result from the implementation of the selected alternative have been identified and incorporated. After a review of the potential environmental effects, the alternative selected for implementation will not impair park resources of values and will not violate the NPS Organic Act.

This decision is the result of a public planning process that began in 1997. A Notice of Intent to Prepare an Environmental Impact Statement for the Fort Stanwix GMP was published in the Federal Register in 1999. Throughout the planning process, extensive research and consultation was conducted with many subject matter experts, local community representatives, and institutions. A public scoping meeting was held on October 23, 2008, at the Rome, New York City Hall, and 12 members of the public were in attendance. Two studies were undertaken to examine areas that are geographically and thematically relevant to Fort Stanwix National Monument—Oriskany Battlefield State Historic Site in Whitestown, NY, and the Northern Frontier encompassing a ten-county area of central New York. The Oriskany Battlefield study found it to be nationally significant and suitable to be added to the national park system; however, the study did not find it feasible at the time to include in the national park system because of New York State's interest in continuing to manage the battlefield site. The park will continue to explore with New York State officials the feasibility of a future boundary adjustment and agreements to manage the site cooperatively or include the site in the national park system. The Northern Frontier study addressed the possible definition and designation of a national heritage area but did not recommend establishment of a new national park system unit or a new national heritage area. The recommendations focused on broader outreach efforts by Fort Stanwix National Monument to better integrate and affiliate with Northern Frontier interpretive themes and related sites.

A Notice of Availability of the Draft GMP/EIS was published on September 26, 2008 and the Draft GMP/EIS was made available for public review through December 1, 2008. A public meeting was held on October 23, 2008 at the City Hall in Rome, NY, to solicit public comments. Fourteen (14) comments were received during the comment period. The consensus of the public comments received was that the NPS was pursuing the correct path for the park in Alternative 2, the Preferred Action. Slight modifications to the preferred alternative were made in response to comments on the Draft GMP/EIS. A Notice of Availability of the Final GMP/EIS was published in the Federal Register on July 31, 2009. The Final GMP/EIS presents the modified preferred alternative and includes letters from governmental agencies, substantive comments on the Draft GMP/EIS, and NPS responses to those comments. The no-action period on the Final GMP/EIS ended on August 31, 2009.

The official primarily responsible for implementing the updated General Management Plan is the Superintendent of Fort Stanwix National Monument.

Richard L. Harris,
Acting Regional Director Northeast Region, National Park Service.

[FR Doc. E9-29852 Filed 12-15-09; 8:45 am]

BILLING CODE 4310-02-P